DEPARTMENT OF THE INTERIOR

Fish and Wildlife Service

Endangered and Threatened Species Permit Application

AGENCY: Fish and Wildlife Service, Interior.

ACTION: Notice of intent to amend endangered species recovery.

The following applicant has applied for an amended permit to conduct certain activities with endangered species. This notice is provided pursuant to section 10(c) of the Endangered Species Act of 1973, as amended (16 U.S.C. 1531, et seq.).

Permit Number TE023308-2

Applicant: U.S. Fish and Wildlife Service, Twin Cities Field Office, Bloomington, Minnesota (Russ Peterson, Field Supervisor).

The applicant holds a permit to take (collect, hold in captivity, propagate, and release) endangered Higgins' eye pearlymussels (Lampsilis higginsi) from locations within their historic range in the States of Iowa, Minnesota, and Wisconsin. The applicant requests authorization to expand the geographical area permitted for reintroducing artificially propagated specimens into the wild to include all historical locations of the species, including mainstem and tributaries of the Upper Mississippi River including the Chippewa, St. Croix, Black and Wisconsin Rivers in Wisconsin; the Iowa, Cedar and Wapsipinicon Rivers in Iowa; the Illinois, Sangamon, and Rock Rivers in Illinois; and, the Minnesota River in Minnesota. This permit is for the enhancement of survival of the species in the wild to protect from zebra mussel (Dreissena polymorpha) infestation, in the interest of recovery.

Written data or comments should be submitted to the Regional Director, U.S. Fish and Wildlife Service, Ecological Services Operations, 1 Federal Drive, Fort Snelling, Minnesota 55111-4056, and must be received within 30 days of the date of this publication.

Documents and other information submitted with this application are available for review by any party who submits a written request for a copy of such documents to the following office within 30 days of the date of publication of this notice: U.S. Fish and Wildlife Service, Ecological Services Operations, 1 Federal Drive, Fort Snelling, Minnesota 55111-4056. Telephone: (612/713-5343); FAX: (612/713-5292).

Dated: April 20, 2001.
Charlie Wooley,
Assistant Regional Director, Ecological Services, Region 3, Fort Snelling, Minnesota.

[FR Doc. 01-11192 Filed 5-3-01; 8:45 am]

BILLING CODE 4310-55-P